DEPARTMENT OF THE INTERIOR

Bureau of Reclamation

[RR02013000, XXXR5537F3, RX.19872100.1000000]

Notice of Intent and Notice of Scoping Meetings for the Long-Term Recapture and Recirculation of San Joaquin River Restoration Program Flows Environmental Impact Statement

AGENCY: Bureau of Reclamation, Interior.

ACTION: Notice.

SUMMARY: The Bureau of Reclamation intends to prepare an Environmental Impact Statement (EIS) for the Long-term Recapture and Recirculation of San Joaquin River Restoration Program Flows. The San Joaquin River Restoration Program is being implemented pursuant to the Stipulation of Settlement in NRDC, et al. v. Kirk Rodgers, et al. (Settlement) and the San Joaquin River Restoration Settlement Act (SJRRS), Title X of Public Law 111-11 (SJRRS Act). In accordance with Paragraph 16(a) of the Settlement and Section 10004(a)(4) of the SJRRS Act, Reclamation intends to develop and implement a long-term plan for recirculation, recapture, reuse, exchange or transfer of restoration flows for the purpose of reducing or avoiding impacts to water deliveries to all of the participating Friant Division long-term contractors.

DATES: Submit written comments on scope of the EIS by August 27, 2015.

Reclamation will hold four scoping meetings to solicit public input on alternatives, concerns, and issues to be addressed in the EIS:

1. Monday, August 10, 2015, 1 p.m. to 3:00 p.m., Sacramento, CA.

2. Tuesday, August 11, 2015, 6 p.m. to 8 p.m., Tulare, CA.

3. Wednesday, August 12, 2015, 6 p.m. to 8 p.m., Fresno, CA.

4. Thursday, August 13, 2015, 6 p.m. to 8 p.m., Los Banos, CA.

Oral and written comments will be accepted during the scoping meetings.

ADDRESSES: Send written comments to Ms. Kellye Kennedy, Project Manager, Bureau of Reclamation, SJRRP, 2800 Cottage Way, MP-170, Sacramento, CA 95825; or email at recaptureandrecirculation@restoresjr.net.

The four scoping meetings will be held at the following locations:

1. Sacramento—Bureau of Reclamation, Mid-Pacific Regional Office, 2800 Cottage Way, Sacramento, CA 95825.

2. Tulare—Tulare International Agriculture Center, 4500 S. Laspina Street, Tulare, CA 93274.

3. Fresno—Fresno Hotel and Conference Center, 2233 Ventura Street, Fresno, CA 93721.

4. Los Banos—College Greens Rental, 1815 Scripps Drive, Los Banos, CA 93635.

FOR FURTHER INFORMATION CONTACT: Ms. Kellye Kennedy at (916) 978-4640; TY 1-800-877-8339; or email at kkennedy@usbr.gov. Additional information is available online at www.restoresjr.net.

SUPPLEMENTARY INFORMATION:

I. Agencies Involved

Reclamation is the lead Federal agency in accordance with the National Environmental Policy Act (NEPA). We will invite the following agencies to participate as cooperating agencies for the preparation of the EIS in accordance with NEPA:

• National Marine Fisheries Service

• Environmental Protection Agency

• U.S. Fish and Wildlife Service

• California Department of Water Resources

• California Department of Fish and Wildlife

• Local agencies (e.g., potentially affected cities and reclamation districts)

• Friant Water Authority

• Friant Division Long-Term Water Contractors

• San Luis and Delta-Mendota Water Authority

• San Joaquin River Exchange Contractors Water Authority

II. Why We Are Taking This Action

In 1988, a coalition of environmental groups, led by the Natural Resources Defense Council (NRDC), filed a lawsuit challenging the renewal of long-term water service contracts between the United States and Central Valley Project Friant Division Long-Term Contractors (Friant Contractors). After more than 18 years of litigation, NRDC, et al., v. Kirk Rodgers, et al., a settlement was reached. On September 13, 2006, the Settling Parties, including NRDC, Friant Water Users Authority (now represented by the Friant Water Authority [FWA]), and the U.S. Departments of the Interior and Commerce, agreed on the terms and conditions of the Settlement, which was subsequently approved by the U.S. Eastern District Court of California (Court) on October 23, 2006. The Settlement establishes two primary goals:

1. Restoration Goal. To restore and maintain fish populations in “good condition” in the main stem of the San Joaquin River below Friant Dam to the confluence of the Merced River, including naturally reproducing and self-sustaining populations of salmon and other fish.

2. Water Management Goal. To reduce or avoid adverse water supply impacts to all of the Friant Contractors that may result from the interim flows and restoration flows provided for in the Settlement. The Settlement and SJRRS Act identify the need for a plan for recirculation, recapture, reuse, exchange or transfer of restoration flows to reduce or avoid impacts to Friant Contractors. The SJRRP Program Environmental Impact Statement/Impact Report (PEIS/R) was finalized in July 2012 and the corresponding Record of Decision (ROD) was issued on September 28, 2012. The PEIS/R and ROD analyzed at a project-level the reoperation of Friant Dam to release restoration flows to the San Joaquin River, making water supplies available to Friant Contractors at a pre-established rate, and the recapture of interim and restoration flows at existing facilities within the restoration area (the San Joaquin River and bypass channels from Friant Dam to the Merced confluence) and the Delta. The PEIS/R and ROD also include program-level actions, which are identified as actions that may require the completion of additional analysis pursuant to NEPA and/or the California Environmental Quality Act, as appropriate. One of the program-level actions identified in the PEIS/R and ROD is the recirculation of recaptured restoration flows. This EIS will analyze and disclose any impacts to the human environment potentially occurring from the proposed alternatives beyond those already analyzed and disclosed in the PEIS/R.

III. Purpose and Need for Action

As described in the PEIS/R, changes to the operation of Friant Dam and release of SJRRP flows in support of the Restoration Goal have the potential to adversely affect water deliveries to Friant Contractors. As identified in the Settlement and SJRRS Act, the Water Management Goal includes a requirement for the development and implementation of a plan for recirculation, recapture, reuse, exchange or transfer of SJRRP flows for the purpose of reducing or avoiding impacts to water deliveries to all of the participating Friant Contractors.

IV. Project Area

The study area may include potentially affected recapture areas in the SJRRP Restoration Area, the lower San Joaquin River, and the Delta; the Friant Service Area, recirculation conveyance areas, and other State Water Project and Central Valley Project service areas potentially affected by transfers or exchanges evaluated in the EIS. The study area analyzed in the EIS will be refined as the alternative development process proceeds and comments received during the public scoping period will be considered.

V. Alternatives To Be Considered

Reclamation will develop a reasonable range of alternatives for analysis in the EIS based on previous studies, public scoping and stakeholder input. Both physical and operational modifications may be included in efforts to recapture and recirculate SJRRP flows. Recirculation of water could occur through the execution of direct deliveries, transfers or exchanges utilizing existing and expanded or new facilities for conveyance. As described in the PEIS/R, long-term recapture and recirculation actions may include modifications to existing facilities or the construction of new facilities. The water may be delivered directly back to the Friant Contractors, or may be made available to others through transfers, exchanges or sales. Action alternatives analyzed in the EIS could include expansion or construction of new facilities for the recapture of SJRRP water, the direct delivery of SJRRP water to Friant Contractors and, the exchange and/or transfer of recaptured SJRRP flows among Friant Contractors or between Friant and non-Friant Contractors.

VI. Statutory Authority

Implementation of the Settlement, including this proposed action, is authorized by the San Joaquin River Restoration Settlement Act, Title X of Public Law 111-11, the Omnibus Public Land Management Act of 2009. In accordance with NEPA, Reclamation will analyze in the EIS the potential direct, indirect, and cumulative environmental effects that may result from implementation of the proposed action and alternatives, which may include, but are not limited to, the following areas of potential impact:

a. Water resources, including groundwater;

b. Flood control;

c. Hydrology/water quality;

d. Biological resources, including fish, wildlife, and plant species;

e. Land use, including agricultural resources;

f. Cultural resources;

g. Air quality;

h. Power/energy and natural resources;

i. Public services and utilities;

j. Hazards and hazardous materials;

k. Geology, soils, and mineral resources;

l. Visual, scenic, or aesthetic resources;

m. Socioeconomics;

n. Environmental justice;

o. Global climate change/greenhouse gas emissions;

p. Indian trust assets;

q. Noise;

r. Population and housing;

s. Transportation; and

t. Recreation.

VII. Request for Comments

The purposes of this notice are:

• To advise other agencies, potentially affected local governments, tribes, and the public of our intention to gather information to support the preparation of an EIS;

• To obtain suggestions and information from other agencies, interested parties, and the public on the scope of alternatives and issues to be addressed in the EIS; and,

• To identify important issues raised by the public related to the development and implementation of the proposed action.

We invite comments from interested parties to ensure that the full range of alternatives and issues related to the development of the proposed action are identified. Written comments may be submitted by mail, electronic mail, facsimile transmission or in person (see ADDRESSES section). Comments and participation in the scoping process are encouraged.

VIII. Public Disclosure

Before including your address, phone number, email address or other personal identifying information in your comment, you should be aware that your entire comment—including your personal identifying information—may be made publicly available at any time. While you can ask us in your comment to withhold your personal identifying information from public review, we cannot guarantee that we will be able to do so.

IX. How To Request Reasonable Accommodation

If special assistance is required at one of the scoping meetings, please contact Reclamation's Public Affairs Office at (916) 978-5100 (TYY 1-800-877-8339) at least five working days before the meetings. Information regarding this proposed action is available in alternative formats upon request.

Dated: July 14, 2015.
Pablo R. Arroyave
Deputy Regional Director, Mid-Pacific Region.

[FR Doc. 2015-18536 Filed 7-27-15; 8:45 am]

BILLING CODE 4332-90-P